DEPARTMENT OF COMMERCE

National Oceanic and Atmospheric Administration

RIN 0648-XA410

Incidental Take Permit and Habitat Conservation Plan for PacifiCorp Klamath Hydroelectric Project Interim Operations

AGENCY: National Marine Fisheries Service (NMFS), National Oceanic and Atmospheric Administration (NOAA), Commerce.

ACTION: Notice of availability of draft environmental assessment, habitat conservation plan, implementing agreement, and receipt of application; notice of public meeting.

SUMMARY: This notice announces that PacifiCorp Energy (PacifiCorp or applicant) has submitted to the National Marine Fisheries Service (NMFS) an application for an incidental take permit under the Endangered Species Act of 1973, as amended (ESA), for a 10-year period. As required by the ESA, PacifiCorp has also prepared a Habitat Conservation Plan (Plan) as part of the application. The application and Plan address potential incidental take of one ESA-listed species as a result of operation and maintenance of the Klamath Hydroelectric Project (Project) in and near the Klamath River in Southern Oregon and Northern California and implementation of the Plan during a 10-year period. This notice also announces the availability of a draft Environmental Assessment (EA) related to the requested permit, the proposed Plan, and the corresponding Implementing Agreement (IA) for public review and comment.

DATES: Written comments on the draft EA, Plan, and IA, must be received by 5 p.m. Pacific Time, on July 5, 2011.

ADDRESSES: Written comments concerning the draft EA, Plan, and IA should be sent by U.S. Mail, facsimile, or e-mail to Lisa Roberts, Fisheries Biologist, NMFS Northern California Office, 1655 Heindon Road, Arcata, CA 95521, facsimile (707) 825-4840, or you may transmit your comment as an attachment to the following e-mail address: PacifiCorpHCP.SWR@noaa.gov.

A public meeting will be held on June 29, 2011, from 6 p.m. to 9 p.m. at the Hilton Garden Inn, 5050 Bechelli Lane, Redding, CA, Phone: (530) 226-5111.

Copies of the draft EA, HCP and IA are available electronically for review on the NMFS Southwest Region Web site at: http://swr.nmfs.noaa.gov/nepa.htm. Copies of these documents are also available for public review during regular business hours from 9 a.m. to 5 p.m. at the NMFS Northern California Office, 1655 Heindon Road, Arcata, CA 95521 (707) 825-5178. Individuals wishing copies of the draft EA, Plan, or IA should contact NMFS by telephone (see FOR FURTHER INFORMATION CONTACT) or by letter (see ADDRESSES).

FOR FURTHER INFORMATION CONTACT: Lisa Roberts, Fisheries Biologist, NMFS, telephone (707) 825-5178.

SUPPLEMENTARY INFORMATION:

Background

Section 9 of the ESA and related Federal regulations prohibit the take of fish and wildlife species listed as endangered or threatened (16 U.S.C. 1538). The term “take'” means to harass, harm, pursue, hunt, shoot, wound, kill, trap, capture, or collect, or to attempt to engage in any such conduct (16 U.S.C. 1532). NMFS further defines harm as an act which actually kills or injures fish or wildlife, which includes significant habitat modification or degradation which actually kills or injures fish or wildlife by significantly impairing essential behavior patterns, including breeding, spawning, rearing, migrating, feeding or sheltering (50 CFR 222.102). Under limited circumstances pursuant to section 10(a)(1)(B) of the ESA (16 U.S.C. 1539(a)(1)(B)), NMFS may issue permits to authorize incidental take of listed fish or wildlife; i.e., take that is incidental to, and not the purpose of, otherwise lawful activity. Regulations governing incidental take permits for threatened and endangered species under NMFS' jurisdiction are found at 50 CFR 222.307.

NMFS has received an application from PacifiCorp Energy (PacificCorp or Applicant) for an incidental take permit (Permit) for operation and maintenance of the Klamath Hydroelectric Project (Project) and implementation of the Plan for a 10-year period. The application was prepared and submitted by the Applicant, the owner and operator of the Project. The Applicant has requested incidental take permit coverage from NMFS for the Southern Oregon/Northern California Coast Evolutionarily Significant Unit of coho salmon Oncorhynchus kisutch. The Applicant has prepared the Plan to satisfy the application requirements for an incidental take permit under section 10(a)(1)(B) of the ESA.

The area covered by the Permit would include the Applicant's existing facilities and the adjacent water and land areas potentially influenced by Project maintenance and operations, including the mainstem Klamath River and reservoirs from Link River dam at the outlet of Upper Klamath Lake in Southern Oregon down to the estuary in Northern California, inclusive.

Project facilities at Iron Gate dam in Northern California, which is the Project dam furthest downstream on the Klamath River, do not include fish passage structures. Thus, anadromous fish passage, including passage of listed coho salmon, is currently blocked at Iron Gate dam. Subject to certain conditions and a pending determination in March 2012 by the Secretary of the Interior, the Klamath Hydroelectric Settlement Agreement (KHSA; for more information about the KHSA, see http://klamathrestoration.gov) anticipates that four Project dams on the Klamath River (Iron Gate, Copco No. 1, Copco No. 2, and J.C. Boyle) will be removed by December 31, 2020, to accomplish volitional fish passage for listed coho salmon and other species. The removal of the dams envisioned in the KHSA modifies an earlier proposal by PacifiCorp to the Federal Energy Regulatory Commission (FERC) to relicense and continue to operate the Project for 50 years. If the dams are not removed under the KHSA or the KHSA terminates for any other reason, the Project would revert to the FERC relicensing proceedings. NMFS has prescribed mandatory fishways, which FERC must include as conditions of any new license for operation of the Project, in the FERC relicensing process. These fishways would provide volitional fish passage for listed coho salmon and other species. Therefore, the requested 10-year period of the Permit is consistent with the expectation that there would be volitional fish passage under either dam removal pursuant to the KHSA or FERC's issuance of a new license for the Project by approximately the end of 2020, and volitional fish passage under either of these processes will provide substantial benefits to coho salmon and other anadromous fish species at the completion of the interim term of the Permit.

NMFS is now considering whether to issue an incidental take permit for the interim operation and maintenance of the Klamath Hydroelectric Project during the interim period described above. Issuance of the incidental take permit by NMFS would be contingent on the implementation of the Plan and adherence to any permit conditions. The Plan that PacifiCorp included with its application for a Permit includes a series of conservation measures to minimize and mitigate the effects of operation of the Project on potential incidental take of listed coho salmon during the interim period described above, including a turbine venting system at Iron Gate Dam; coordinated participation in flow variability and flow ramp rate measures at Iron Gate Dam; placement of large woody debris downstream of Iron Gate Dam; funding fish disease research to benefit coho salmon; and a fund that would be used to implement various projects designed to benefit coho salmon by enhancing habitat conditions in the Klamath River and tributaries downstream of Iron Gate Dam.

National Environmental Policy Act Compliance

Proposed permit issuance triggers the need for compliance with the National Environmental Policy Act of 1969, as amended (NEPA). NMFS has prepared a draft EA which evaluates the impacts of the proposed issuance of the Permit and implementation of the Plan, as well as the No Action Alternative in which the Permit would not be issued and the Plan would not be implemented. Copies of the draft EA are available for review as described earlier in the ADDRESSES section of this document.

Public Comments Solicited

NMFS invites the public to comment on the Plan, IA, and draft EA as described above in the ADDRESSES section during a 60-day public comment period described above in the DATES section. All comments and materials received, including names and addresses, will become part of the administrative record and may be released to the public. This notice is provided pursuant to section 10(c) of the ESA (16 U.S.C. 1539(c)) and regulations for implementing NEPA (40 CFR 1506.6). We provide this notice in order to allow the public, agencies, or other organizations to review and comment on these documents. The final NEPA determinations will not be made until after the 60-day public comment period has ended and after NMFS has fully considered all relevant comments received during the comment period.

Special Accommodations

The public meeting is physically accessible to people with disabilities. Requests for sign language interpretation or other auxiliary aids should be directed to Lisa Roberts, NMFS, at (707) 825-5178, at least 5 working days prior to the public meeting date.

Next Steps

NMFS will evaluate the application, associated documents, and public comments submitted to prepare final decision documents.

Dated: April 28, 2011.
Angela Somma,
Chief, Endangered Species Division, Office of Protected Resources, National Marine Fisheries Service.

[FR Doc. 2011-10902 Filed 5-3-11; 8:45 am]

BILLING CODE 3510-22-P